ENVIRONMENTAL PROTECTION AGENCY

[FRL-6880-3]

Proposed CERCLA Administrative Cost Recovery Settlement; in Re: The Former Three-C Electrical Company; Inc. Superfund Site, Ashland, Massachusetts

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Former Three-C Electrical Company, Inc. Superfund site in Ashland, Massachusetts, with the following settling party: Three-C Electrical Company, Inc. The settlement requires the settling parties to pay $45,000 to the Hazardous Substance Superfund. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection with the Regional Docket Clerk, U.S. Environmental Protection Agency, Region I, One Congress Street, Suite 1100, Mailcode RCG, Boston, Massachusetts (U.S. EPA Docket No. CERCLA 1-2000-0019).

DATES: Comments must be submitted on or before November 2, 2000.

ADDRESSES: The proposed settlement is available for public inspection with the Regional Docket Clerk, One Congress Street, Boston, Massachusetts. A copy of the proposed settlement may be obtained from RuthAnn Sherman, U.S. Environmental Protection Agency, Region I, One Congress Street, Suite 1100, Mailcode SES, Boston, Massachusetts 02214, (617) 918-1886. Comments should reference the Former Three-C Electrical Company, Inc. Superfund Site, Ashland, Massachusetts and EPA Docket No. 1-2000-0019 and should be addressed to the Docket Clerk, U.S. Environmental Protection Agency, Region I, One Congress Street, Suite 1100, Mailcode RCG, Boston, Massachusetts 02214.

FOR FURTHER INFORMATION CONTACT: RuthAnn Sherman, U.S. Environmental Protection Agency, Region I, One Congress Street, Suite 1100, Mailcode SES, Boston, Massachusetts 02214, (617) 918-1886.

Dated: September 18, 2000.
Patricia L. Meaney,
Director, Office of Site Remediation and Restoration.

[FR Doc. 00-25347 Filed 10-2-00; 8:45 am]

BILLING CODE 6560-50-P